COMMODITY FUTURES TRADING COMMISSION

17 CFR Part 18

Reports by Traders

CFR Correction

In Title 17 of the Code of Federal Regulations, Parts 1 to 199, revised as of January 1, 2003, in § 18.04, on page 314, remove paragraph (d).

[FR Doc. 03-55522 Filed 8-13-03; 8:45 am]

BILLING CODE 1505-01-D